ENVIRONMENTAL PROTECTION AGENCY

[EPA-HQ-OW-2013-0652; FRL-9904-85-OW]

Extension of Comment Period for the Alaska Seafood Processing Effluent Limitation Guidelines Notice of Data Availability

AGENCY: Environmental Protection Agency (EPA).

ACTION: Notice of data availability; Extension of comment period.

SUMMARY: The Environmental Protection Agency (EPA) is extending the comment period for the Alaska Seafood Processing Effluent Limitation Guidelines Notice of Data Availability. EPA is extending the comment period in response to stakeholder requests for an extension.

DATES: Comments must be received on or before March 7, 2014. The comment period was originally scheduled to end on January 6, 2014.

ADDRESSES: Submit your comments, identified by Docket identification (ID) No. EPA-HQ-OW-2013-0652, by one of the following methods:

• Federal eRulemaking Portal: http://www.regulations.gov. Follow the online instructions for submitting comments.

• Email: ow-docket@epa.gov.

• Mail: Water Docket, U.S. Environmental Protection Agency, Mail code: 4203M, 1200 Pennsylvania Ave. NW., Washington, DC 20460. Attention Docket ID No. EPA-HQ-OW-2013- 0652. Please include three copies.

• Hand Delivery: Water Docket, EPA Docket Center, William Jefferson Clinton Building West Room 3334, 1301 Constitution Ave. NW., Washington, DC, Attention Docket ID No. EPA-HQ-OW-2013-0652. Such deliveries are only accepted during the Docket's normal hours of operation, and special arrangements should be made for deliveries of boxed information by calling 202-566-2426.

• Instructions: Direct your comments to Docket ID No. EPA-HQ-OW-2013-0652. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disc you submit. If the EPA cannot read your comment due to technical difficulties and cannot contact you for clarification, the EPA may not be able to consider your comment. Electronic files should avoid the use of special characters, any form of encryption, and be free of any defects or viruses. For additional information about the EPA's public docket visit the Docket Center homepage at http://www.epa.gov/epahome/dockets.htm.

Docket: All documents in the docket are listed in the http://www.regulations.gov index. Although listed in the index, some information is not publicly available (e.g., CBI or other information whose disclosure is restricted by statute). Certain other materials, such as copyrighted material, will be publicly available only in hard copy. Publicly available docket materials are available either electronically in http://www.regulations.gov or in hard copy at the Office of Water Docket Center, EPA/DC, William Jefferson Clinton Building West, Room 3334, 1301 Constitution Ave. NW., Washington, DC. The Public Reading Room is open from 8:30 a.m. to 4:30 p.m., Monday through Friday, excluding legal holidays. The telephone number for the Public Reading Room is (202) 566-1744; the telephone number for the Office of Water Docket Center is (202) 566-2426.

FOR FURTHER INFORMATION CONTACT: Lindsay Guzzo, Office of Water and Watersheds, NPDES Permit Unit (OWW-130), 1200 Sixth Avenue, Suite 900, Seattle, WA 98101; (206) 553-0268, guzzo.lindsay@epa.gov, or Meghan Hessenauer, Engineering and Analysis Division (4303T), U.S. EPA, 1200 Pennsylvania Ave. NW., Washington, DC 20460; (202) 566-1040; hessenauer.meghan@epa.gov.

SUPPLEMENTARY INFORMATION: On November 7, 2013 the Environmental Protection Agency (EPA) published the Alaska Seafood Processing Effluent Limitations Guidelines Notice of Data Availability in the Federal Register (78 FR 66916). In the notice EPA made available for public review and comment additional data and information gathered recently by the EPA from seafood processing facilities in Alaska and other publicly available sources. These data relate to the applicability of and discharge requirements for the Alaskan seafood subcategories of the Canned and Preserved Seafood Processing effluent limitations guidelines. In the notice EPA provided preliminary results of analyses of the updated data and preliminary indications of how these results may be reflected in EPA's final response to petitions submitted in 1980 by certain members of the Alaskan seafood processing industry, and in amended effluent limitations guidelines applicable to certain Alaskan seafood processing discharges which EPA is considering whether to promulgate in final form (CFR part 408).

Dated: December 19, 2013.
Nancy K. Stoner,
Acting Assistant Administrator, Office of Water.

[FR Doc. 2013-31113 Filed 12-26-13; 8:45 am]

BILLING CODE 6550-50-P